DEPARTMENT OF TRANSPORTATION

Federal Highway Administration

Announcement of I-69 Status

AGENCY: Federal Highway Administration, DOT.

ACTION: Announcement of I-69 Status.

SUMMARY: The purpose of this announcement is to provide information on the status of Interstate 69, a transcontinental highway corridor designated by the U.S. Congress to extend from the U.S./Canadian border to the U.S./Mexican border. The public is invited to participate in FHWA NEPA process, and to contact the States through which the corridor runs for specific project information.

ADDRESSES: See SUPPLEMENTARY INFORMATION section for addresses.

FOR FURTHER INFORMATION CONTACT: K. Lynn Berry, Community Impact Specialist, Federal Highway Administration, Southern Resource Center, 61 Forsyth Street, Suite 17T26, Atlanta, GA, 30303, Telephone: (404) 562-3618, E-mail: klynn.berry@fhwa.dot.gov.

SUPPLEMENTARY INFORMATION: The Federal Highway Administration (FHWA) has initiated the project planning, development, and decisionmaking process for numerous transportation projects related to a transcontinental highway corridor, designated as I-69. The corridor has been defined by the United States Congress to extend from Port Huron, Michigan (bordering Sarnia, Ontario, Canada) to the Lower Rio Grande Valley in Texas at the Mexican border, a distance of more than 1600 miles.

The I-69 corridor (originally known as Corridor 18) was designated by the U.S. Congress as a High-Priority Corridor of National Significance in the Intermodal Surface Transportation Efficiency Act of 1991 (ISTEA). It was further defined in the National Highway System Designation Act of 1995 and the Transportation Equity Act for the 21st Century (TEA-21) in 1998. The I-69 Corridor has been identified to address the transportation needs associated with the increase in goods movements between the three partners (U.S.A., Mexico, and Canada) to the North American Free Trade Agreement of 1992. It is also a key transportation recommendation of the Clinton Administration's Delta Initiative, which is aimed at the revitalization and economic development of the Lower Mississippi Delta Region. The overall purpose of I-69 corridor is to improve international and interstate trade in accordance with national and state goals; and to facilitate economic development in accordance with state, regional, and local policies, plans and surface transportation consistent with national, state, regional, local needs and with congressional designation of the corridor.

Several studies were conducted that informed the authorizing legislation. They include the 1995 Corridor 18 Feasibility Study, a 1996 Corridor 20 Feasibility Study, and the Corridor 18 Special Issues Study, completed in 1997.

Per the legislative authorities, the current definition of I-69 stipulates the following:

• Includes the existing I-69 facility from Indianapolis to Port Huron, Michigan/Sarnia, Ontario, Canada;

• Includes the I-94 facility from Port Huron, through Detroit (including the Ambassador Bridge interchange) to Chicago, Illinois;

• A new Interstate route (I-69) from Indianapolis to the Lower Rio Grande Valley serving the following:

—Evansville, Indiana,

—Memphis, Tennessee,

—Shreveport/Bossier City, Louisiana,

—Houston, Texas.

The route would pass through Mississippi and Arkansas between Memphis and Shreveport/Bossier City.

• Requires that in Tennessee, Mississippi, Arkansas and Louisiana, the corridor follow the alignment generally identified in the “Special Issues Study” (1997); and

• Includes, in the Lower Rio Grande Valley:

—US 77 from the Mexican border to US 59 in Victoria, Texas;

—US 281 from the Mexican border to US 59, then to Victoria, Texas;

—The Corpus Christi Northside Highway and Rail Corridor from the intersection of US 77 and I-37 to US 181; and

—FM 511 from US 77 to the Port of Brownsville.

Additional studies have been conducted to refine planning efforts subsequent to ISTEA and TEA-21. The Special Environmental Studies included a report on Sections of Independent Utility (1999) and a Statement of Purpose and Need (February 2000). Related studies examined the Southwest Indiana Highway Corridor; Mississippi State Highway 304 Corridor; The Great River Bridge Crossing of the Mississippi River; The US 59 Corridor Master Plan from Diboll, Texas to Garrison, Texas; and I-69 Route Feasibility in the Houston, Texas metropolitan area.

The Statement of Purpose and Need identified benefits to the Nation that have been shown to outweigh the costs of providing the transportation facility. These benefits are related to system linkage, capacity, transportation demand, economic development, modal/freight interrelationships, safety, and roadway deficiencies. Studies considering alternative transportation modal choices have identified that an interstate highway facility would best meet the needs as identified.

The I-69 corridor and related projects fall within nine States (Michigan, Illinois, Indiana, Kentucky, Tennessee, Mississippi, Arkansas, Louisiana, and Texas). The length of the corridor precludes the planning, development, and decisionmaking of the full corridor as a single construction project. For the purposes of planning, the overall length of more than 1,600 miles was divided into 32 Sections of Independent Utility (SIU). 26 of these sections form a continuous route from the Michigan/Canada border to the Texas/Mexico border, and six sections are identified as connecting routes to I-69. The SIUs were developed in a manner consistent with the FHWA memorandum dated November 3, 1993 on establishing logical termini, and have been approved for advancement to the FHWA National Environmental Policy Act (NEPA) decisionmaking process. In some cases, the FHWA NEPA process, documentation, and approvals have already been applied to projects and work activities within the corridor.

This notice also announces that the advancement of I-69 is moving from the corridor planning and feasibility study stages to the state project planning, development, and FHWA NEPA process and decisionmaking stages. Each state will study viable sections identified above, addressing state and local needs, schedules, and funding constraints in accordance with the FHWA NEPA process. State and local needs for any particular project will be considered, as well as the national legislative and administrative objectives for the movement of goods across the country. The FHWA will partner with the state departments of transportation to facilitate the examination of alternatives and impacts within the proposed corridor, and to ensure consistency in addressing the national transportation objectives relative to transcontinental trade put forth by Congress.

Interagency workshops and briefings have been conducted. The primary mechanism for working with resource agencies has been through the Southeast Natural Resource Leaders Group (SENRLG) and its counterparts in Dallas, Texas, and Chicago, Illinois. SENRLG, which will continue to serve as an advisory group to I-69 decisionmakers, is a collaboration of regional and Federal executives who lead agencies with natural resource conservation as part of their mission. In addition to the conservation, restoration, and management of resources, SENRLG is committed to promoting ecologically sustainable development. To this end, it will assist transportation officials in determining the impact of I-69 as well as opportunities for enhancing the environment. In working with the resource agencies, emphasis will be given to procedures which will facilitate the acceleration of project management, development, and decisionmaking, and which ensure public outreach, involvement and coordination with Federal, state, and local agencies.

There have been many public involvement activities and opportunities throughout the I-69 process. During the planning and feasibility study stages, a series of public meetings was held in Memphis, Tennessee, a city central to the corridor. They were held on the following dates:

November 7, 1994 to receive suggestions and comments.

September 25, 1995 to discuss results of the Feasibility Study.

August 29, 1996 to receive suggestions and comments.

May 28, 1997 to discuss the results of the Special Issues Study.

A number of advocacy groups were involved during corridor studies. Additionally, ten Metropolitan Planning Organizations have been involved in planning for I-69, and more opportunities for public involvement will continue throughout the process. Currently, state-specific studies are being conducted in accordance with each state's public involvement process.

Future public involvement activities will be conducted in each state, as I-69 projects are advanced through the FHWA NEPA process. Each state will issue a notice of intent to proceed with the FHWA NEPA process for I-69 projects in the Federal Register, clearly identifying the projects as part of the corridor. For information regarding opportunities to participate in the transportation decision-making process, please contact one of the representatives from the state departments of transportation or the FHWA Division offices.

| State contact | FHWA division contact
Michigan | Dave Wresinski, Manager, Project Planning Section, Michigan Department of Transportation, State Transportation Building, 425 West Ottawa, P.O. Box 30050, Lansing, MI 48913, Phone: 517-373-8258, Fax: 517-373-9255, Email: wresinskid@mdot.state.mi.us | James J. Steele, Division Administrator, Federal Building, Room 207, 315 West Allegan Street, Lansing, Michigan 48933, Phone: 517-377-1844, Fax: 517-377-1804, Email: Michigan. FHWA@fhwa.dot.gov
Illinois | Mr. William Sunley, Deputy Director of Program Development, Division of Highways, Illinois Department of Transportation, 2300 South Dirksen Parkway, Springfield, IL 62764, Phone: 217-782-2972, Email: sunleyb@nt.dot.state.il.us | Ron Marshall, Division Administrator, 3250 Executive Park Drive, Springfield, Illinois 62703, Phone (217) 492-4600, Fax (217) 492-4621, Email: illinois.fhwa@fhwa.dot.gov
Indiana | Steve Cecil, Deputy Commissioner of Planning and Intermodal Transportation, Indiana Department of Transportation, 100 North Senate Avenue, Room N755, Indianapolis, IN 46204-2249, Phone: 317-232-5535, Fax: 317-232-0238, Email:scecil@indot.state.in.us | John Baxter, Division Administrator, 575 North Pennsylvania Street, Room 254, Indianapolis, Indiana 46204, Phone: 317-226-7475, Fax: 317-226-7341, Email: John.Baxter@fhwa.dot.gov
Kentucky | Michael Hancock, Deputy State Highway Engineer, Kentucky Transportation Cabinet, State Office Building, Rm 1005, 501 High Street, Frankfort, KY 40622, Phone: 502-564-3730, Fax: 502-564-2277, Email: mhancock@mail.kytc.state.ky.us | Jose Sepulveda, Division Administrator, 330 West Broadway, Frankfort, KY 40601, Phone: 502-223-6720, Fax: 502-223-6735 Email: jose.sepulveda@fhwa.dot.gov
Tennessee | Dennis Cook, Assistant Chief Engineer, Tennessee Department of Transportation, 700 James K. Polk Building, 505 Deaderick Street, Nashville, TN 37243-0349, Phone: 615-741-3339, Fax: 615-741-0865, Email: dcook@mail.state.tn.us | Charles S. Boyd, Division Administrator, 640 Grassmere Park Road, Suite 112, Nashville, Tennessee 37211, Phone: 615-781-5770, Fax: 615-781-5773, Email: Charles.Boyd@tn.fhwa.dot.gov
Mississippi | Marlin Collier, Director, Office of Intermodal Planning, Mississippi Department of Transportation, P.O. Box 1850, Jackson, Mississippi 39215, Phone: 601-359-7025, Fax: 601-359-7050, Email: mcollier@mdot.state.ms.us | Andrew H. Hughes, Division Administrator, 666 North Street, Suite 105, Jackson, Mississippi 39202, Phone: 601-965-4217, Fax: 601-965-4231, E-mail: hughes@ms.fhwa.dot.gov
Arkansas | Steve Teague, Assistant Chief Engineer for Planning, Arkansas State Highway and Transportation Department, P.O. Box 2261, Little Rock, AR 72203-2261, Phone: 501-569-2241, Fax: 501-569-2400, E-mail: steve.teague@ahtd.state.ar.us | Sandra L. Otto, Division Administrator, 700 West Capitol Avenue, Room 3130, Little Rock, AR 72201, Phone: (501) 324-5625, Fax: (501) 324-6423, Email: sandra.otto@ar.fhwa.dot.gov
Louisiana | Mr. Kenneth A. Perret, Assistant Secretary, Office of Planning and Programming, Louisiana Department of Transportation and Development, P.O. Box 94245, Baton Rouge, LA 70804-9245, Phone: 225-379-1248, Fax: 225-379-1227, Email: kperret@dotdmail.dotd.state.la.us | William A. Sussmann, Division Administrator, 5304 Flanders Drive, Suite A, Baton Rouge, LA 70808, Phone: 225-757-7600, Fax: 225-757-7601, Email: Louisiana.FHWA@fhwa.dot.gov
Texas | Alvin R. Luedecke, Director, Transportation Planning and Programming Division, Texas Department of Transportation, 200 East Riverside, Bldg. 118, 2nd Floor, Austin, TX 78704, Phone: 512-486-5000, Fax: 512-486-5007, Email: aluedeck@dot.state.tx.us | C.D. (Dan) Reagan, Division Administrator, 300 E. 8th Street, Austin, TX 78701, Phone: 512-536-5900, Fax: 512-536-5990, Email: Texas.FHWA@fhwa.dot.gov

On behalf of the U.S. Department of Transportation and Federal Highway Administration, Mr. Eugene Cleckley, Director, Field Services—South, Atlanta, Georgia, has been appointed the U.S. DOT Executive Official to facilitate coordination among the states and FHWA, and to facilitate project management, acceleration, and decisionmaking. He will provide leadership in working with a Steering Committee of transportation officials who will coordinate the I-69 initiative. The Steering Committee, chaired by Mr. Dan Flowers of the Arkansas State Highway and Transportation Department (AHTD), is comprised of eight member states. The AHTD serves as the administrative agency acting on behalf of the Steering Committee and as a central repository for documentation related to the corridor as a whole.

(Catalog of Federal Domestic Assistance Program Number 20.205, Highway Research and Construction. The regulation implementing Executive Order 12372 regarding intergovernmental consultation of Federal programs and activities apply to the program)

Authority: 23 U.S.C. 315; 49 CFR 1.48.

Issued on: December 1, 2000.
Eugene W. Cleckley,
Director, Field Services—South.

[FR Doc. 00-31145 Filed 12-7-00; 8:45 am]

BILLING CODE 4910-22-P